ENVIRONMENTAL PROTECTION AGENCY

[FRL-7260-1]

Food Safety Risk Analysis Clearinghouse; Public Meeting and Poster Presentations

AGENCY: Environmental Protection Agency.

ACTION: Notice of public meeting.

SUMMARY: The Environmental Protection Agency (EPA) is announcing a public meeting cosponsored by the interagency Risk Assessment Consortium (RAC). This meeting will be hosted by Federal research scientists who deal with a broad array of food safety issues, and will be an open house poster session on the afternoon of September 18, 2002. The purpose of this public meeting is to provide an opportunity for the public to observe the breadth of food safety risk assessment expertise that is utilized by Federal agencies.

DATES: The public meeting will be held on September 18, 2002, 1 p.m. to 5 p.m.

ADDRESSES: The public meeting will be held at the Harvey W. Wiley Federal Building, 5100 Paint Branch Parkway, Room 1A001, College Park, Maryland 20740.

FOR FURTHER INFORMATION CONTACT: Jacqueline McQueen, Office of Research and Development (8104R), U.S. Environmental Protection Agency, 1200 Pennsylvania Ave., NW., Washington, DC 20460-0001, 202-564-6639, FAX 202-565-2916, e:mail: mcqueen.jacqueline@epamail.epa.gov or Tomeikah Williams, Center for Food Safety and Applied Nutrition (HFS-6), Food and Drug Administration, 5100 Paint Branch Parkway, College Park, Maryland 20740, 301-436-1675, FAX 301-436-2630, e-mail: tomeikah.williams@cfsan.fda.gov.

Registration: None required.

SUPPLEMENTARY INFORMATION: The Risk Assessment Consortium (RAC), which includes members from Federal agencies that have responsibilities for food safety risk analysis, was established under the President's Food Safety Initiative to advance the science of food safety risk assessment and to assist agencies in fulfilling their specific food safety regulatory mandates. Through the RAC, the agencies collectively work to enhance communication and coordination among the member agencies and promote the conduct of scientific research that will facilitate risk assessments.

The focus of this public meeting will be to demonstrate how the process of risk assessment is applied to many types of food safety issues, including bacterial contamination, food additives, pesticides, and antibiotic resistance. Scientists who work within the Food and Drug Administration (FDA), the U.S. Department of Agriculture (USDA), the Centers for Disease Control (CDC), and the Environmental Protection Agency (EPA), and other agencies will be presenting posters on how the scientific process applies to these many potential problems. Examples of topics that will be presented in the posters include pesticides, food additives, biotech-derived plant materials, natural contaminants such as mycotoxins, antibiotic resistance, and microbial hazards. A computer demonstration will also be available to show how changing certain assumptions in microbial risk assessments can greatly influence the results of many assessments and how the best available data are used to provide accurate predictions. A complete list of poster topics will be posted at: http://www.foodriskclearinghouse.umd.edu/Risk_Assessment_Consortium.htm.

Dated: August 9, 2002.
Kevin Y. Teichman,
Acting Director, Office of Science Policy, Office of Research and Development.

[FR Doc. 02-20743 Filed 8-14-02; 8:45 am]

BILLING CODE 6560-50-P